FEDERAL COMMUNICATIONS COMMISSION

47 CFR Part 64

[WC Docket No. 12-375; DA 20-1446; FRS 17293]

Petition for Reconsideration of Action in Proceeding

AGENCY: Federal Communications Commission.

ACTION: Petition for Reconsideration.

SUMMARY: Chérie R. Kiser has filed a Petition for Reconsideration (Petition) on behalf of Global Tel*Link Corporation (GTL) in Federal Communications Commission (FCC) WC Docket No. 12-375.

DATES: Oppositions to the Petition must be filed on or before January 11, 2021. Replies to an opposition must be filed on or before January 20, 2021.

ADDRESSES: Federal Communications Commission, 45 L Street NE, Washington, DC 20554.

FOR FURTHER INFORMATION CONTACT: Peter Bean, Pricing Policy Division, Wireline Competition Bureau, at (202) 418-0786 or via email at peter.bean@fcc.gov.

SUPPLEMENTARY INFORMATION: This is a summary of the FCC's Public Notice, DA 20-1446, released December 3, 2020. The full text of the FCC's Public Notice is available at: (https://docs.fcc.gov/public/attachments/DA-20-1446A1.pdf). The full text of GTL's Petition for Reconsideration is available at: https://ecfsapi.fcc.gov/file/1123843514310/GTL%20Petition%20for%20Reconsideration%20(11-23-20).pdf.

GTL requests reconsideration of a single sentence from the 2020 ICS Report and Order on Remand stating that “the jurisdictional nature of a call depends on the physical location of the endpoints of the call and not on whether the area code or NXX prefix of the telephone number associated with the account, are associated with a particular state.” ¹ In order to avoid a potential overlap between a previously-announced reply comment date in this docket, 85 FR 67480, and the due date for oppositions to GTL's Petition; to provide more certainty with regard to the commencement of the pleading cycle for this Petition; and in the interest of allowing all stakeholders the opportunity to fully and meaningfully respond to the Petition, the Bureau finds good cause pursuant to 47 CFR 1.3 to waive, on its own motion, if necessary, the deadline for oppositions as set forth in 47 CFR 1.429(f) to permit a longer pleading cycle should Federal Register publication of a notice of the filing of the Petition occur on or before December 24, 2020. Should Federal Register Publication of the notice of the Petition occur after Thursday, December 24, 2020, the Bureau will extend the deadline for oppositions and replies to provide a full 15/10 day opposition period, respectively, as required under the Commission's rules.

¹ 2020 ICS Report and Order on Remand, 35 FCC Rcd at 8503, para. 53; Petition at ii, 3.

The Commission will not send a Congressional Review Act (CRA) submission to Congress or the Government Accountability Office pursuant to the CRA, 5 U.S.C. 801 because no rules are being adopted by the Commission.

Subject: Rates for Interstate Inmate Calling Services, FCC 20-111, published at 85 FR 67450, October 23, 2020, in WC Docket No. 12-375. This document is being published pursuant to 47 CFR 1.429(e). See also 47 CFR 1.4(b)(1) and 1.429(f), (g).

Number of Petitions Filed: 1.

Federal Communications Commission.
Daniel Kahn,
Associate Bureau Chief, Wireline Competition Bureau.

[FR Doc. 2020-27982 Filed 12-18-20; 8:45 am]

BILLING CODE 6712-01-P